DEPARTMENT OF THE INTERIOR

United States Geological Survey

[GX16CN00B9D1000]

Announcement of Public Review Period for a Report of the Advisory Committee on Water Information, Subcommittee on Hydrology

AGENCY: United States Geological Survey, Department of the Interior.

ACTION: Notice.

SUMMARY: Notice is hereby given of the availability for public review of the draft U.S. Geological Survey report, “Guidelines for Determining Flood Flow Frequency”, commonly known as Bulletin 17B. This report was drafted under the auspices of the Hydrologic Frequency Analysis Work Group (HFAWG), which operates under the supervision of the Advisory Committee on Water Information's (ACWI) Subcommittee on Hydrology (SOH). Public review and comment is sought under the HFAWG Terms of Reference and the USGS peer review plan for the report (URL: http://www.usgs.gov/peer_review/docs/guidelines_for_determining_flood-flow_frequency.pdf).

The ACWI was established under the authority of the Office of Management and Budget Memorandum 92-01 and the Federal Advisory Committee Act. The purpose of the ACWI is to provide a forum for water-information users and professionals to advise the Federal Government about activities and plans which may improve the effectiveness of meeting the Nation's water information needs.

It has been 33 years since the last revision of Bulletin 17B in March 1982. At that time, it was recognized that continued investigation and improvements of flood frequency analysis techniques were needed. In fact, Bulletin 17B included a list of areas where additional research was recommended by the Work Group in 1982. The SOH's HFAWG has done extensive work during the last few years to update the Bulletin.

The draft report resulting from that process is now available for public review and comment. The report may be accessed at http://acwi.gov/hydrology/Frequency/b17c/index.html. A printed copy of the report may be obtained by contacting the U.S. Geological Survey, 12201 Sunrise Valley Drive, 417 National Center, Reston, Virginia 20192; (703) 648-6810.

DATES: Comments on the report should be provided no later than 45 days from the issuance of this notice. Comments can most effectively be provided through an electronic form (https://script.google.com/a/macros/usgs.gov/s/AKfycbwqQzlLmc0__KrlT6N5blVYMgNS-KQoVZ_ezZIGg6xm1s-7OXaV/exec) that is indexed to specific sections and page numbers in the report, or they may be sent to gs_b17c@usgs.gov.

Wendy E. Norton,
Executive Secretary, ACWI.

[FR Doc. 2016-03570 Filed 2-19-16; 8:45 am]

BILLING CODE 4338-11-P